DEPARTMENT OF LABOR

Employment and Training Administration

[TA-W-55,700]

Emerson Tool Company Including Leased Workers of Securitas, Inc. Manpower and Nicolet Staffing Menominee, MI; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on October 7, 2004, applicable to workers of Emerson Tool Company, Menominee, Michigan. The notice will be published soon in the Federal Register.

At the request of the State agency, the Department reviewed the certification for workers of the subject firm. New information shows that leased workers of Securitas, Inc., Manpower and Nicolet Staffing were employed at the Menominee, Michigan location of Emerson Tool Company.

Based on these findings, the Department is amending this certification to include leased workers of Securitas, Inc., Manpower and Nicolet Staffing working at Emerson Tool Company, Menominee, Michigan.

The intent of the Department's certification is to include all workers employed at Emerson Tool Company who were adversely affected by increased imports.

The amended notice applicable to TA-W-55,700 is hereby issued as follows:

All workers of Emerson Tool Company, Menominee, Michigan, including leased workers of Securitas, Inc., Manpower and Nicolet Staffing working at Emerson Tool Company, Menominee, Michigan, who became totally or partially separated from employment on or after July 6, 2004, through October 7, 2006, are eligible to apply for adjustment assistance under Section 223 of the Trade Act of 1974, and are also eligible to apply for alternative trade adjustment assistance under Section 246 of the Trade Act of 1974.

Signed at Washington, DC, this 29th day of October, 2004.
Richard Church,
Certifying Officer, Division of Trade Adjustment Assistance.

[FR Doc. E4-3132 Filed 11-10-04; 8:45 am]

BILLING CODE 4510-30-P